DEPARTMENT OF HEALTH AND HUMAN SERVICES

Substance Abuse and Mental Health Services Administration

Meeting of the Substance Abuse and Mental Health Services Administration, Center for Mental Health Services National Advisory Council

AGENCY: Substance Abuse and Mental Health Services Administration, Health and Human Services (HHS).

ACTION: Notice.

SUMMARY: Notice is hereby given of the meeting on August 27, 2020 of the Substance Abuse and Mental Health Services Administration (SAMHSA), Center for Mental Health Services National Advisory Council (CMHS NAC). The meeting is open to the public and can be accessed remotely. The meeting will include consideration of the minutes from the February 20, 2020, SAMHSA, CMHS NAC meeting; updates from the CMHS Director; a presentation from the SAMHSA Statistics and Data Demonstration, and a discussion from the Assistant Secretary for Mental Health and Substance Use on SAMHSA's response to COVID-19.

DATES: Thursday, August 27, 2020, 10:00 a.m. to 1:15 p.m., EDT, (OPEN).

ADDRESSES: The meeting will be held virtually only. Agenda with call-in information will be posted on the SAMHSA website prior to the meeting at: https://www.samhsa.gov/about-us/advisory-councils/meetings.

FOR FURTHER INFORMATION CONTACT: Pamela Foote, Designated Federal Officer, CMHS National Advisory Council, 5600 Fishers Lane, Room 14E57B, Rockville, Maryland 20857. Telephone: (240) 276-1279, Fax: (301) 480-8491, Email: pamela.foote@samhsa.hhs.gov.

SUPPLEMENTARY INFORMATION: Interested persons may present data, information, or views, orally or in writing, on issues pending before the Council. Individuals interested in sending written submissions or making public comments, must forward them and notify the contact person on or before August 10, 2020. Up to three minutes will be allotted for each presentation.

Registration is required to participate during this meeting. To attend virtually, or to obtain the call-in number and access code, submit written or brief oral comments, or request special accommodations for persons with disabilities, please register on-line at: http://snacregister.samhsa.gov/MeetingList.aspx or communicate with the CMHS NAC Designated Federal Officer; Pamela Foote.

Meeting information and a roster of Council members may be obtained by accessing the SAMHSA website at: http://www.samhsa.gov/about-us/advisory-councils/cmhs-national-advisory-council or by contacting the CMHS NAC Designated Federal Officer; Pamela Foote.

Council Name: Substance Abuse and Mental Health Services Administration Center for Mental Health Services National Advisory Council

Authority: Public Law 92-463.

Dated: July 21, 2020.
Carlos Castillo,
Committee Management Officer, SAMHSA.

[FR Doc. 2020-16149 Filed 8-5-20; 8:45 am]

BILLING CODE 4162-20-P